PEACE CORPS

Agency Information Collection Under Review by the Office of Management and Budget (OMB)

AGENCY: Peace Corps.

ACTION: Notice of submission for OMB Review, comment request.

SUMMARY: The Peace Corps has submitted an information collection to the Office of Management and Budget for review under the provisions of the Paperwork Reduction Act of 1995. The Peace Corps Correspondence Match Program Brochure and PC-2042, Correspondence Match Enrollment Form (Rev. 07/2006), OMB Control #0420-0513 is required under the Peace Corps Act for Volunteer recruitment purposes. This is a reinstatement, with changes, of a previously approved collection for which approval has expired. No comments were received in response to the Peace Corps' earlier Federal Register Notice (October 3, 2006, Volume 71, Number 191, p. 58454 for 60 days). The Peace Corps and Paul D. Coverdell World Wise Schools invites comments on whether the proposed collection of information is necessary for proper performance of the functions of the Peace Corps and the Paul D. Coverdell World Wise Schools Correspondence Match program, including whether the information will have practical use; the accuracy of the agency's estimate of the burden of the proposed collection of information, including the validity of the information to be collected; and, ways to minimize the burden of the collection of information on those who are to respond, including through the use of automated collection techniques, when appropriate, and other forms of information technology.

DATES: Comments must be submitted on or before February 5, 2007.

ADDRESSES: Comments should be mailed to Peace Corps, Office of Domestic Programs, Sally Caldwell, Director of World Wise Schools, 1111 20th Street, NW., Washington, DC 20526. Ms. Caldwell can be contacted by telephone at (202) 692-1425 or 800-424-8580, ext. 1425 or e-mail at scaldwell@peacecorps.gov. E-mail comments must be made in text and not in attachments.

Information Collection Abstract

OMB Control Number: 0420-0513.

Title: Correspondence Match Enrollment Form.

Need for and Use of the Information: The Peace Corps and Paul D. Coverdell World Wise Schools need this information to officially enroll educators in the Correspondence Match program. The information collected is used to make suitable matches between the educators and currently serving Peace Corps Volunteers.

Type of Review: Reinstatement, with change, of a previously approved collection for which approval has expired.

Respondents: Educators interested in promoting global education in the classroom.

Respondents Obligation to Reply: Voluntary.

Burden on the Public:

a. Annual reporting burden: 1667 hours.

b. Annual recordkeeping burden: 250 hours.

c. Estimated average burden per response: 10 minutes.

d. Frequency of response: Annually.

e. Estimated number of likely respondents: 10,000.

f. Estimated cost to respondents/Agency: 0/$8,900.

This notice is issued in Washington, DC on December 20, 2006.
Wilbert Bryant,
Associate Director for Management.

[FR Doc. 06-9956 Filed 1-3-07; 8:45 am]

BILLING CODE 6051-01-M